ENVIRONMENTAL PROTECTION AGENCY

[EPA-HQ-OW-2004-0013; FRL-10089-01-OMS]

Information Collection Request Submitted to OMB for Review and Approval; Comment Request; EPA Program Information on Source Water Protection (Renewal)

AGENCY: Environmental Protection Agency (EPA).

ACTION: Notice.

SUMMARY: The Environmental Protection Agency (EPA) has submitted an information collection request (ICR), EPA Program Information on Source Water Protection (EPA ICR Number 1816.08, OMB Control Number 2040-0197) to the Office of Management and Budget (OMB) for review and approval in accordance with the Paperwork Reduction Act. This is a proposed extension of the ICR, which is currently approved through July 31, 2022. Public comments were previously requested via the Federal Register on December 28, 2021, during a 60-day comment period. This notice allows for an additional 30 days for public comments. A fuller description of the ICR is given in the SUPPLEMENTARY INFORMATION section of this announcement, including its estimated burden and cost to the public. An agency may not conduct or sponsor and a person is not required to respond to a collection of information unless it displays a currently valid OMB control number.

DATES: Additional comments may be submitted on or before August 29, 2022.

ADDRESSES: Submit your comments, referencing Docket ID Number EPA-HQ-OW-2004-0013 to EPA online using https://www.regulations.gov (our preferred method), by email to OW-Docket@epa.gov, or by mail to: EPA Docket Center, Environmental Protection Agency, Mail Code 28221T, 1200 Pennsylvania Avenue NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Sherri Comerford, Drinking Water Protection Division, Prevention Branch, Office of Ground Water and Drinking Water (MC 4606M), Environmental Protection Agency, 1200 Pennsylvania Avenue NW, Washington, DC 20460; telephone number: 202-564-4639; email address: comerford.sherri@epa.gov.

SUPPLEMENTARY INFORMATION: Supporting documents, which explain in detail the information that the EPA will be collecting, are available in the public docket for this ICR. The docket can be viewed online at https://www.regulations.gov or in person at the EPA Docket Center, WJC West, Room 3334, 1301 Constitution Ave. NW, Washington, DC. The telephone number for the Docket Center is 202-566-1744. For additional information about EPA's public docket, visit http://www.epa.gov/dockets.

Abstract: EPA is collecting data from the states on their advancement toward substantial implementation of protection strategies for all community water systems (CWSs). EPA and states use this voluntary collection of data to track and understand the progress toward increasing the percentage of CWSs (and the populations they serve) where risk is minimized through source water protection. Source water protection data that states submit directly to the Source Water Protection Information System (SDWIS) is accessible to the public via EPA's website at: https://www.epa.gov/ground-water-and-drinking-water/safe-drinking-water-information-system-sdwis-federal-reporting. Availability of this information, together with source water and demographic indicators that are publicly available via EPA's Drinking Water Mapping Application to Protect Source Waters (DWMAPS) on EPA's website at: https://www.epa.gov/sourcewaterprotection/drinking-water-mapping-application-protect-source-waters-dwmaps, promote equity by empowering communities to include these considerations in their own analyses and outreach efforts.

Form Numbers: None.

Respondents/affected entities: 51.

Respondent's obligation to respond: Voluntary.

Estimated number of respondents: 51 (total).

Frequency of response: Annual.

Total estimated burden: 288 hours (per year). Burden is defined at 5 CFR 1320.03(b).

Total estimated cost: $17,074 (per year).

Changes in the estimates: EPA anticipates the annual totals for estimated burden and costs at 288 hours and $17,074, respectively. There is an expected decrease of hours in the total estimated respondent burden compared to what was identified in the ICR currently approved by OMB due to voluntary reporting that would decrease in frequency from quarterly to annual reporting. State databases are fully developed and tracking is routine, which EPA believes will result in efficiencies that would allow states to minimize hourly burden and cost.

Courtney Kerwin,
Director, Regulatory Support Division.

[FR Doc. 2022-16190 Filed 7-27-22; 8:45 am]

BILLING CODE 6560-50-P